FEDERAL RETIREMENT THRIFT INVESTMENT BOARD

Notice of Board Meeting

DATES: December 21, 2020 at 10:00 a.m.

ADDRESSES: Telephonic. Dial-in (listen only) information: Number: 1-877-446-3914, Code: 2205917.

FOR FURTHER INFORMATION CONTACT: Kimberly Weaver, Director, Office of External Affairs, (202) 942-1640.

SUPPLEMENTARY INFORMATION:

Board Meeting Agenda

Open Session

1. Approval of the November 16, 2020 Board Meeting Minutes

2. Monthly Reports

(a) Participant Activity Reports

(b) Investment Performance

(c) Legislative Report

3. Quarterly Reports

(d) Vendor Risk Management Update

Closed Session

4. Information covered under 5 U.S.C. 552b(c)(4).

Informational Session

5. Ethics and Fiduciary Training

Authority: 5 U.S.C. 552b(e)(1).

Dated: December 9, 2020.
Dharmesh Vashee,
Acting General Counsel, Federal Retirement Thrift Investment Board.

[FR Doc. 2020-27401 Filed 12-11-20; 8:45 am]

BILLING CODE 6760-01-P